DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 18, 2000.

Interested persons are invited to submit written comments regarding the subject matter of the investigations to the Director, Division of Trade Adjustment Assistance, at the address shown below, not later than September 18 2000.

The petitions filed in this case are available for inspection at the Office of the Director, Division of Trade Adjustment Assistance, Employment and Training Administration, U.S. Department of Labor, 200 Constitution Avenue, N.W., Washington, D.C. 20210.

Signed at Washington, D.C. this 14th day of August, 2000.
Edward A. Tomchick,
Director, Division of Trade Adjustment Assistance.

Appendix—Petitions Instituted on 08/14/2000
TA-W | Subject firm (Petitioners) | Location | Date of petition | Product(s)
37,953 | Stanly Knitting Mills (Co.) | Oakboro, NC | 08/04/2000 | Knit and Woven Garments.
37,954 | Brestle, Inc (Co.) | High Point, NC | 08/04/2000 | Household Furniture.
37,955 | J.A. Thurston Co., Inc (Co.) | Rumford, ME | 08/04/2000 | Dowels—Valve Pins.
37,956 | Jockey International (Co.) | Randleman, NC | 08/01/2000 | Hosiery.
37,957 | Miller Harness (Wkrs) | E. Rutherford, NJ | 07/31/2000 | Warehouse and Distribution.
37,958 | HPH Apparel Manufacturing (Co.) | Pine Flats, TN | 07/27/2000 | Denim Jeans.
37,959 | Melvin Quilting (Wkrs) | Rocky Mountain, NC | 07/18/2000 | Pillows.
37,960 | Vincennes Manufacturing (Wkrs) | Vincennes, IN | 07/20/2000 | Metal Seating and Stamping.
37,961 | Jammie's Manufacturing (UNITE) | Perth Amboy, NJ | 07/27/2000 | Children's Apparel.
37,962 | Boise Cascade (WCIW) | Independence, OR | 08/01/2000 | Green Veneer.
37,963 | Prestolite Wire Corp (Co.) | Bristol, TN | 07/22/2000 | Battery Cables and Terminals.
37,964 | Hampton Industries (Wkrs) | Kinston, NC | 07/20/2000 | Garment Cutting.
37,965 | Telex Communications, Inc (IUE) | Sevierville, TN | 07/24/2000 | Microphone Products.
37,966 | Republic Technologies (Co.) | Johnstown, PA | 07/25/2000 | Steel Bars (Billets).
37,967 | Reliable Exploration (Co.) | Billings, MT | 08/01/2000 | Seismic Oil Field Services.
37,968 | Vesuvius Premier Group (USWA) | Washington, PA | 08/03/2000 | Refractories.
37,969 | Arnold Palmer Golf (The) (Wkrs) | Pocahontas, AR | 08/02/2000 | Gold Bags.
37,970 | Dervo Teepak, Inc (Wkrs) | Danville, IL | 07/31/2000 | Celluose Casing.
37,971 | ARCO (Atlantic Richfield) (Wkrs) | Plano, TX | 08/01/2000 | Crude Oil.

[FR Doc. 00-22760 Filed 9-5-00; 8:45 am]

BILLING CODE 4510-30-M